FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than October 22, 2002.

A. Federal Reserve Bank of Chicago (Phillip Jackson, Applications Officer) 230 South LaSalle Street, Chicago, Illinois 60690-1414:

1. Steven M. Eldred, Beloit, Wisconsin, as voting trustee of the Helen M. Eldred Voting Trust and the John M. Eldred Voting Trust; and the Eldred Family Limited Partnership I and Eldred Family Limited Partnership II, both located in Beloit, Wisconsin, to gain control of Centre I Bancorp, Inc., Beloit, Wisconsin, and thereby indirectly acquire First National Bank and Trust Company of Beloit, Beloit, Wisconsin.

2. Mark B. Richardson, Thetford Center, Vermont, and Kimberly A. Richardson, Atlanta, Georgia; to acquire voting shares of Oakwood Bancorp, Inc., Springfield, Illinois, and thereby indirectly acquire voting shares of United Community Bank, Oakwood, Illinois.

Board of Governors of the Federal Reserve System, October 2, 2002.
Robert deV. Frierson,
Deputy Secretary of the Board.

[FR Doc. 02-25485 Filed 10-7-02; 8:45 am]

BILLING CODE 6210-01-S